MERIT SYSTEMS PROTECTION BOARD

Agency Information Collection Activities: Renewal of a Currently Approved Information Collection; Comment Request; Generic Clearance for the Collection of Qualitative Feedback on Agency Service Delivery

AGENCY: Merit Systems Protection Board.

ACTION: 60-Day notice and request for comments.

SUMMARY: The Merit Systems Protection Board (MSPB), as part of its continuing effort to reduce paperwork and respondent burden, is seeking a three-year renewal, without change, from the Office of Management and Budget (OMB), of a currently approved Information Collection Request (ICR) entitled: “Generic Clearance for the Collection of Qualitative Feedback on Agency Service Delivery” and identified by OMB Control No. 3124-0015, as required by the Paperwork Reduction Act of 1995 (PRA). This collection was developed as part of a Federal Government-wide effort to streamline the process for seeking feedback from the public on service delivery. MSPB is soliciting comments on this renewal, without change, of a previously approved collection set to expire on May 31, 2023. The purpose of this notice is to allow 60 days for public comment preceding submission of the collection to the OMB.

DATES: Consideration will be given to all comments received by May 30, 2023.

ADDRESSES: Submit comments by using only one of the following methods:

(1) Email. Submit comments to privacy@mspb.gov.

(2) Mail. Submit comments to D. Fon Muttamara, Chief Privacy Officer, Office of the Clerk of the Board, Merit Systems Protection Board, 1615 M Street NW, Washington, DC 20419.

(3) Fax. Submit comments to (202) 653-7130.

All comments must reference OMB Control No. 3124-0015. Regardless of the method used for submitting comments or material, all submissions will be posted, without change, to MSPB's website (www.mspb.gov) and will include any personal information you provide. Therefore, submitting this information makes it public.

FOR FURTHER INFORMATION CONTACT: D. Fon Muttamara, Chief Privacy Officer, at privacy@mspb.gov. You may submit written questions to the Office of the Clerk of the Board by any of the following methods: by email to privacy@mspb.gov, or by mail to Clerk of the Board, U.S. Merit Systems Protection Board, 1615 M Street NW, Washington, DC 20419. Please include OMB Control No. 3124-0015 with your questions.

SUPPLEMENTARY INFORMATION: MSPB intends to seek a three-year renewal, without change, of a currently approved information collection “Generic Clearance for the Collection of Qualitative Feedback on Agency Service Delivery,” OMB Control No. 3124-0015.

The proposed information collection activity provides a means to obtain qualitative customer and stakeholder feedback in an efficient, timely manner, in accordance with MSPB's commitment to improving service delivery. Qualitative feedback is information that provides useful insights on perceptions and opinions but are not statistical surveys that can be generalized to the population of study. This feedback will provide insights into customer or stakeholder perceptions, experiences and expectations, provide an early warning of issues with service, or focus attention on areas where communication, training or changes in operations might improve delivery of products or services. These collections will allow for ongoing, collaborative and actionable communications between MSPB and its customers and stakeholders. It will also allow feedback to contribute directly to the improvement of program management.

The solicitation of feedback will target areas such as: timeliness, appropriateness, accuracy of information, courtesy, efficiency of service delivery, and resolution of issues with service delivery. Responses will be assessed to plan and inform efforts to improve or maintain the quality of service offered to the public. If this information is not collected, vital feedback from customers and stakeholders on MSPB's services will be unavailable.

The MSPB will only submit a collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary and is not retained;

• Information gathered will be used only internally for general service improvement and program management purposes and is not intended for release outside of MSPB;

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

Title: Generic Clearance for the Collection of Qualitative Feedback on Agency Service Delivery.

OMB Number: 3124-0015.

Type of Information Collection: Renewal, without change, of a currently approved information collection.

ICR Status: This ICR is currently scheduled to expire on May 31, 2023. An agency may not conduct or sponsor, and a person is not required to respond to, a collection of information, unless it displays a currently valid OMB control number.

Abstract of Proposed Collection: This collection is part of a Federal Government-wide effort to streamline the process for seeking feedback from the public on service delivery and provides a means to obtain qualitative customer and stakeholder feedback in an efficient, timely manner, in accordance with MSPB's commitment to improving service delivery. Responses to any collection of information under this ICR are voluntary.

Affected Public: Individuals and Households; Businesses and Organizations.

Estimated Total Number of Respondents: 600.

Estimated Frequency of Responses: Once per year.

Estimated Total Average Number of Responses for Each Respondent: Once per year.

Estimated Total Annual Burden Hours: 49.8.

Estimated Total Cost: $1,887.42.

Comments: Comments should be submitted as indicated in the ADDRESSES caption above. Comments are solicited to: (a) evaluate whether the collection of information is necessary for the proper performance of the functions of MSPB, including whether the information shall have practical utility; (b) evaluate the accuracy of MSPB's estimate of the burden of the collection of information; (c) enhance the quality, utility, and clarity of the information to be collected; (d) minimize the burden of the collection of information on respondents, including through the use of automated collection techniques or other forms of information technology; and (e) evaluate the estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Jennifer Everling,
Acting Clerk of the Board.

[FR Doc. 2023-06348 Filed 3-27-23; 8:45 am]

BILLING CODE 7400-01-P